DEPARTMENT OF JUSTICE

Notice of Lodging of Consent Decree Under the Comprehensive Environmental Response, Compensation, and Liability Act

Consistent with Section 122 of the Comprehensive Environmental Response, Compensation, and Liability Act of 1980, as amended (“CERCLA”), 42 U.S.C. 9622(d), and 28 C.F.R. 50.7, notice is hereby given that on September 21, 2010, the United States lodged a Consent Decree with Bud's Oil Service, Inc. (“Settling Defendant”) in United States of America v. Bud's Oil Service, Inc., Case No. CV10-7032 GAF (AJWx) (C.D. Cal.), with respect to the Omega Chemical Superfund Site, located in Whittier, Los Angeles County, California (the “Omega Site”) and the Casmalia Resources Superfund Site (the “Casmalia Site”) (both referred to collectively as the “Sites”), located in Santa Barbara County, California.

On September 21, 2010, Plaintiff United States of America (“United States”), on behalf of the United States Environmental Protection Agency (“EPA”) filed a complaint in this matter against defendant Bud's Oil Service, Inc., pursuant to CERCLA Section 107, 42 U.S.C. 9607, seeking recovery of environmental response costs incurred by EPA related to the release or threatened release or disposal of hazardous substances at or from the Sites.

Financial information provided by the Settling Defendant indicated a financial inability to pay. However, pursuant to settlement agreements between Settling Defendant and certain of its insurers, the United States has received reimbursement of response costs totalling $485,000. Of this total, $2,900 will be payable to or transferred by EPA to the Casmalia Resources Site Special Account. The remaining amount ($482,100) will be applied towards the Omega Chemical Corporation Site Special Account. In exchange, the proposed Consent Decree provides Settling Defendant with a covenant not to sue and contribution protection with respect to the Sites.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States of America v. Bud's Oil Service, Inc., Case No. CV 10-7032 GAF (AJWx) (C.D. Cal.) (DOJ Ref. No. 90-11-3-06529/9). The Consent Decree may be examined at U.S. Environmental Protection Agency, Office of Regional Counsel, EPA Region 9, 75 Hawthorne Street, San Francisco, CA 94105 (contact Stephen Berninger, (415) 972-3909). During the public comment period, the Consent Decree may also be examined on the following Department of Justice Web site, http://www.usdoj.gov/enrd/Consent_Decrees.html. A copy of the Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States of America v. Bud's Oil Service, Inc., Case No. CV 10-7032 GAF (AJWx) (C.D. Cal.) (DOJ Ref. No. 90-11-3-06529/9), and enclose a check in the amount of $ 6.50 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-25423 Filed 10-7-10; 8:45 am]

BILLING CODE 4410-15-P